DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 5, 2011. Address written comments to Statutory Import Programs Staff, Room 3720, U.S. Department of Commerce, Washington, DC 20230. Applications may be examined between 8:30 a.m. and 5 p.m. at the U.S. Department of Commerce in Room 3720.

Docket Number: 10-073. Applicant: University of Chicago Argonne, LLC, 9700 South Cass Avenue, Argonne, IL 60439. Instrument: Chemical Mechanical Polishing (CMP) Tool. Manufacturer: Logitech Ltd., UK. Intended Use: The CMP will be installed in the Center for Nanoscale Materials for performing lithography and fabricating atomically smooth surfaces on various materials, such as ultrananocrystalline diamond and gold films. Justification for Duty-Free Entry: Instruments of the same general category being manufactured in the United States do not meet the technical requirements within the available budget. Application accepted by Commissioner of Customs: May 13, 2011.

Docket Number: 11-013. Applicant: Wichita State University, 1845 Fairmont Street, Wichita, KS 67260. Instrument: Field emission scanning electron microscope. Manufacturer: Carl Zeiss SMT, Germany. Intended Use: The instrument will be used to examine the morphology and composition of metals, composites and nanocomposites, and for training undergraduate and graduate students in optical microscopy. Justification for Duty-Free Entry: There are no instruments of the same general category being manufactured in the United States. Application accepted by Commissioner of Customs: May 26, 2011.

Docket Number: 11-029. Applicant: University of California, Santa Barbara, CA 93106. Instrument: Josephson Junction Deposition System (Electron Beam Evaporation Unit with Load Lock Model MEB 550S). Manufacturer: Plassys Bestek SAS, France. Intended Use: The system will be incorporated into a superconducting quantum bit device, and will be used to deposit and grow Josephson junctions as part of students' research requirements in the physics Ph.D program. Justification for Duty-Free Entry: There are no instruments of the same general category being manufactured in the United States. Application accepted by Commissioner of Customs: May 26, 2011.

Dated: June 7, 2011.
Gregory W. Campbell,
Director, Subsidies Enforcement Office. Office of Policy, Import Administration.

[FR Doc. 2011-14576 Filed 6-10-11; 8:45 am]

BILLING CODE 3510-DS-P